DEPARTMENT OF COMMERCE

National Oceanic and Atmospheric Administration

[I.D. 060501C]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Comprehensive Management Committee, Surfclam and Ocean Quahog Committee, Executive Committee, Law Enforcement Committee, and Squid, Mackerel, and Butterfish Committee will hold a public meeting.

DATES: The meetings will be held on Tuesday, June 26, 2001 through Thursday, June 28, 2001. See SUPPLEMENTARY INFORMATION for specific dates and times.

ADDRESSES: This meeting will be held at the Radisson Hotel Hampton, 700 Settlers Landing Road, Hampton, VA, telephone: 757-727-9700.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, June 26, 2001, the Comprehensive Management Committee will meet from 10 a.m. until noon; and the Surfclam and Ocean Quahog Committee will meet from 1 p.m. to 4 p.m. On Wednesday, June 27, the Executive Committee will meet from 8 a.m. to 9 a.m; the Law Enforcement Committee will meet from 8 a.m. to 9 a.m; the Squid, Mackerel, Butterfish Committee will meet from 9 a.m. until noon; and the Council will meet from 1 p.m. to 5 p.m. On Thursday, June 28, Council will meet from 8 a.m. until 1 p.m.

Agenda items for the committees and Council meeting(s), as appropriate, are: Finalize the Comprehensive Management Committee’s action plan to address Council priorities; review staff recommendations for 2002 quotas and management measures, and develop 2002 quota specification recommendations for surfclam and ocean quahogs; develop comments regarding proposed rule updating regulations affecting Council operations; continue development of Mid-Atlantic Council enforcement guidelines; review Monitoring Committee’s recommendations on squid, mackerel, and butterfish for 2002 quotas and management measures and address possible in-season adjustment for 2001; recognize U.S. Coast Guard Cutter Staten Island with Council’s Fishery Achievement Award; and develop recommendations for 2002 quota specifications for both squid, mackerel, butterfish and surfclam and ocean quahogs; hear organizational and committee reports including the New England Council's report where the Council may address possible actions on herring, groundfish, monkfish, red crab, scallops, skates, and whiting. The Council may also address possible actions from the South Atlantic Council on rock shrimp and dolphin/wahoo.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

This meeting is physically accessible to people with disabilities. Requests for sign language interpretation or other auxiliary aids should be directed to Joanna Davis at the Council at least 5 days prior to the meeting date. Dated:

Dated: June 8, 2001.
Richard W. Surdi,
Acting Director, Office of Sustainable Fisheries, National Marine Fisheries Service.

[FR Doc. 01-14922 Filed 6-12-01; 8:45 am]

BILLING CODE 3510-22-S